LEGAL SERVICES CORPORATION

Sunshine Act Meeting of the Board of Directors Operations & Regulations Committee

TIME AND DATE: The Operations and Regulations Committee of the Legal Services Corporation Board of Directors will meet on November 8, 2002. The meeting will begin at 10:15 a.m. and continue until the Committee concludes its agenda.

LOCATION: The W Los Angeles Hotel, 930 Hilgard Avenue, Los Angeles, CA.

STATUS OF MEETING: Open.

MATTERS TO BE CONSIDERED: 1. Approval of agenda.

1. Approval of agenda.

2. Approval of the minutes of the Committee's meeting of August 23, 2002.

3. Consider and act on Draft Notice of Proposed Rulemaking on LSC's Financial Eligibility regulation, 45 CFR Part 1611.

4. Consider and act on Draft Notice of Proposed Rulemaking on LSC's Disclosure of Information pursuant to the Freedom of Information Act regulation, 45 CFR part 1602.

5. Consider and act on Staff Report on the Rulemaking Protocol.

6. Consider and act on Limited English Proficiency Guidance for LSC recipients.

7. Staff report on other rulemakings.

8. Consider and act on other business.

9. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Elizabeth S. Cushing, at (202) 336-8800.

Dated: November 1, 2002.
Victor M. Fortuno,
Vice President for Legal Affairs, General Counsel & Corporate Secretary.

[FR Doc. 02-28300 Filed 11-4-02; 10:11 am]

BILLING CODE 7050-01-P